Title 3—

The President

Proclamation 7740 of December 1, 2003

World AIDS Day, 2003

By the President of the United States of America

A Proclamation

The HIV/AIDS pandemic presents one of the greatest medical and social challenges of our time. On World AIDS Day, members of the global community come together to demonstrate our shared commitment to turning the tide against the spread of HIV/AIDS, bringing hope and healing to those who are suffering, and finding a cure.

Over the last two decades, AIDS has claimed the lives of more than 20 million people. Three million have died in the last year alone. Today, more than 40 million people are living with HIV, including nearly 30 million in Africa. Behind these staggering numbers are the names and faces of orphaned and suffering children, devastated communities, and a continent in crisis.

In my State of the Union Message to the Congress in January of this year, I announced an “Emergency Plan for AIDS Relief,” with a goal of helping millions around the world affected by HIV/AIDS, particularly those in the most afflicted nations in Africa and the Caribbean. In May, the Congress responded by passing the “United States Leadership Against HIV/AIDS, Tuberculosis, and Malaria Act of 2003,” which I signed into law. A life-saving initiative, the Act commits $15 billion over the next 5 years to prevent 7 million new HIV infections, treat at least 2 million people with life-extending drugs, provide care for at least 10 million people affected by AIDS, continue bilateral programs in over 75 countries, and increase support for the Global Fund to Fight AIDS, Tuberculosis, and Malaria. This work of mercy will help overcome fear, stigma, and discrimination and create a cycle of hope and promise that will benefit millions.

Here at home, we will spend more than $15 billion this year to combat AIDS in America. This money will support research activities, care and treatment services, and prevention programs, including the wide availability of rapid HIV testing.

Fighting HIV/AIDS is not only a great challenge but also a moral imperative for those who believe in the value and dignity of every human life. This World AIDS Day, the United States remains committed to taking action, showing compassion, and bringing hope to those affected by HIV/AIDS around the world.

NOW, THEREFORE, I, GEORGE W. BUSH, President of the United States of America, by virtue of the authority vested in me by the Constitution and laws of the United States, do hereby proclaim December 1, 2003, as World AIDS Day. I urge the Governors of the States and the Commonwealth of Puerto Rico, officials of the other territories subject to the jurisdiction of the United States, and the American people to join me in reaffirming our commitment to combating HIV/AIDS. I encourage all Americans to participate in appropriate commemorative programs and ceremonies in houses of worship, workplaces, and other community centers to remember those who have lost their lives to this deadly disease and to comfort and support those living with and affected by HIV/AIDS.

IN WITNESS WHEREOF, I have hereunto set my hand this first day of December, in the year of our Lord two thousand three, and of the Independence of the United States of America the two hundred and twenty-eighth.

B

[FR Doc. 03-30305

Filed 12-3-03; 8:45 am]

Billing code 3195-01-P